NUCLEAR REGULATORY COMMISSION

[NRC-2016-0043]

Clarification of Compensatory Measure Requirements for Physical Protection Program Deficiencies

AGENCY: Nuclear Regulatory Commission.

ACTION: Draft regulatory issue summary; request for comment.

SUMMARY: The U.S. Nuclear Regulatory Commission (NRC) is seeking public comment on a draft regulatory issue summary (RIS) entitled, RIS 2016-XX, “Clarification on the Implementation of Compensatory Measures for Protective Strategy Deficiencies or Degraded or Inoperable Security Systems, Equipment, or Components.” The NRC intends to issue this RIS to remind licensees of the requirement to implement compensatory measures, supported by a site-specific analysis, to ensure that licensees maintain, at all times, the capability to detect, assess, interdict, and neutralize threats as identified in NRC regulations. Compensatory measures must be implemented for degraded or inoperable security systems, equipment, or components, and for protective strategy deficiencies identified during performance evaluation exercises and drills.

DATES: Submit comments by March 31, 2016. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2016-0043. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Daniel Cardenas, U.S. Nuclear Regulatory Commission, Washington, DC 20555-0001; telephone: 301-287-0756; email: Daniel.Cardenas@nrc.gov.

SUPPLEMENTARY INFORMATION:

I. Obtaining Information and Submitting Comments

A. Obtaining Information

Please refer to Docket ID NRC-2016-0043 when contacting the NRC about the availability of information for this action. You may obtain publicly-available information related to this action by any of the following methods:

• Federal Rulemaking Web site: Go to http://www.regulations.gov and search for Docket ID NRC-2016-0043.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. This RIS is available under ADAMS Accession No. ML15040A596.

• NRC's PDR: You may examine and purchase copies of public documents at the NRC's PDR, Room O1-F21, One White Flint North, 11555 Rockville Pike, Rockville, Maryland 20852.

B. Submitting Comments

Please include Docket ID NRC-2016-0043 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The Commission directed the NRC staff in Staff Requirements Memorandum (SRM) “COMGEA/COMWCO-14-0001—Proposed Initiative to Conduct a Lessons Learned Review of the NRC's Force-on-Force Inspection Program” (ADAMS Accession No. ML14043A063) to conduct a lessons-learned review of the NRC's force-on-force inspection program. Through this review, the NRC staff identified that, in certain cases, licensees have implemented immediate compensatory measures where such measures are not required by NRC regulations and guidance. The NRC staff identified proposed enhancements to the force-on-force inspection program and communicated these to the Commission in SECY-14-0088, “Proposed Options to Address Lessons-Learned Review of the U.S. Nuclear Regulatory Commission's Force-on-Force Inspection Program in Response to Staff Requirements Memorandum—COMGEA/COMWCO-14-001” (ADAMS Accession No. ML14139A231).

One of the proposed enhancements was to issue a generic communication to licensees clarifying when compensatory measures must be immediately implemented. In SRM-SECY-14-0088, “Proposed Options to Address Lessons Learned Review of the NRC's Force-on-Force Inspection Program in Response to Staff Requirements—COMGEA/COMWCO-14-0001” (ADAMS Accession No. ML14353A433), the Commission directed the staff to issue a proposed generic communication to clarify the NRC's expectations regarding the implementation of compensatory measures. Therefore, the NRC is issuing a draft RIS to communicate with stakeholders on this matter.

The intent of this RIS is to remind addressees of the requirement for implementation of compensatory measures, supported by a site-specific analysis, to ensure that their physical protection program maintains, at all times, the capability to detect, assess, interdict, and neutralize threats, as identified in Section 73.1, “Purpose and Scope,” of title 10 of the Code of Federal Regulations (10 CFR). Compensatory measures must be implemented for degraded or inoperable security systems, equipment, or components, and for protective strategy deficiencies identified during performance evaluation exercises and drills. Licensees should use a site-specific analysis, based on all available information, to determine the specific timeframes and measures to compensate for protective strategy deficiencies, or degraded or inoperable security equipment, systems, or components.

III. Proposed Action

The NRC is requesting public comments on the draft RIS 2016-XX. The NRC staff will make a final determination regarding issuance of the RIS after it considers any public comments received in response to this request.

Dated at Rockville, Maryland, this 24th day of February 2016.
For the Nuclear Regulatory Commission.
J. Todd Keene,
Acting Chief, Generic Communications Branch, Division of Policy and Rulemaking, Office of Nuclear Reactor Regulation.

[FR Doc. 2016-04347 Filed 2-29-16; 8:45 am]

BILLING CODE 7590-01-P